DEPARTMENT OF AGRICULTURE

Rural Housing Service

Notice of Request for Extension of a Currently Approved Information Collection; Correction

AGENCY: Rural Housing Service, USDA.

ACTION: Proposed collection, comments requested; correction.

SUMMARY: The Rural Housing published a document in the Federal Register of June 16, 2010, concerning the extension of a currently approved information collection. The document contained incorrect information.

FOR FURTHER INFORMATION CONTACT: Cheryl Thompson, 202-692-0043.

Correction

In the Federal Register of June 16, 2010, in FR Doc. 2010-14490, on page 34093, correct the following to read:

1. In the first column, OMB Number: 0575-0192; and

2. In the second column, line 30, (202) 692-0040.

Dated: June 16, 2010.
Tammye Trevino,
Administrator, Rural Housing Service.

[FR Doc. 2010-15553 Filed 6-25-10; 8:45 am]

BILLING CODE 3410-XY-P